DEPARTMENT OF THE INTERIOR

Bureau of Land Management

[NV-010-1990-GN; 08-08807; TAS: 14X1109]

Notice of Availability of Draft Supplemental Environmental Impact Statement for the Betze Pit Expansion Project, Nevada

AGENCY: Bureau of Land Management, Interior.

ACTION: Notice of availability.

SUMMARY: In accordance with the National Environmental Policy Act of 1969 (NEPA, 42 U.S.C. 4321 et seq.), the Bureau of Land Management (BLM), Elko District Office has prepared a Draft Supplemental Environmental Impact Statement (DSEIS) to expand the Betze Pit at an open pit gold mine in Nevada; and by this Notice is announcing the opening of the comment period.

DATES: To ensure comments will be considered, the BLM must receive written comments on the Betze Pit Expansion Project DSEIS within 45 days following the date the Environmental Protection Agency publishes the Notice of Availability in the Federal Register. The BLM will announce future meetings or hearings and any other public involvement activities at least 15 days in advance through public notices, media news releases and/or mailings.

ADDRESSES: You may submit comments by any of the following methods:

—E-mail: eiscommentselko@nv.blm.gov.

—Fax: (775) 753-0255.

—Mail: Attention Kirk Laird, Project Manager, BLM Elko District Office, 3900 East Idaho Street, Elko, NV 89801.

Copies of the Betze Pit Expansion Project DSEIS are available in the BLM Elko District Office, at the above address and on the internet site at: http://www.blm.gov/nv/st/en/fo/elko_field_office.html.

FOR FURTHER INFORMATION CONTACT: For further information or to have your name added to the mailing list, contact Kirk Laird, Project Manager, BLM Elko District Office, 3900 East Idaho Street, Elko, NV 89801 (775) 753-0200, or e-mail to: Kirk_Laird@blm.gov.

SUPPLEMENTARY INFORMATION: The Betze Pit Expansion Project DSEIS is an amendment to the Betze Project Plan of Operations for an ongoing open pit mine on the Carlin Trend in Eureka and Elko counties, Nevada. The Preferred Alternative of the DSEIS includes the Proposed Action of expanding the existing open pit and constructing a new waste rock and tailings facility. Current mining operations at the Betze Project are expected to end in 2011, with processing operations ending in 2020. The Proposed Action in the Preferred Alternative of the Betze Pit Expansion Project DSEIS would extend mining for 4 years and processing for 5 years. BLM's preferred alternative would also maximize mule deer corridor access in the vicinity of the Clydesdale Waste Rock Facility. Other alternatives include the No-Action Alternative continuing mining as currently approved without approving the expansion and a third Alternative denying the construction of the new Clydesdale Waste Rock Facility in favor of continued expansion of the existing Bazza Waste Rock Facility. A cumulative impacts study and supplemental EIS completed in 2000 and 2002 addressed groundwater pumping/dewatering issues for the Betze Pit, and pumping will continue whether or not expansion is approved. Major issues are impacts of current and proposed operations on mule deer migration routes, potential changes to the post-mining pit lake chemistry, air quality including increased greenhouse gas and mercury emissions/deposition, and sustaining benefits of mining on the local economy.

Please note that public comments and information submitted including names, street addresses, and email addresses of respondents will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6.

Tom Warren,
Acting District Manager.

[FR Doc. E8-19396 Filed 8-21-08; 8:45 am]

BILLING CODE 4310-HC-P